DEPARTMENT OF THE INTERIOR

Bureau of Indian Affairs

Lummi Nation—Title 20—Code of Laws—Liquor Code

AGENCY: Bureau of Indian Affairs, Interior.

ACTION: Notice.

SUMMARY: This notice publishes the amendment to Lummi Nation's Title 20—Code of Laws—Liquor Code. The Code regulates and controls the possession, sale and consumption of liquor within the Lummi Nation's Reservation and Indian country. The land is located on trust land and this Code allows for the possession and sale of alcoholic beverages within the Lummi Nation's Reservation and Indian country. The Code will increase the ability of the tribal government to control the distribution and possession of liquor within their reservation and Indian country, and at the same time will provide an important source of revenue, the strengthening of the tribal government and the delivery of tribal services.

DATES: Effective Date: This Amendment is effective as of December 13, 2011.

FOR FURTHER INFORMATION CONTACT: Betty Scissions, Tribal Government Officer, Northwest Regional Office, Bureau of Indian Affairs, 911 NE. 11th Avenue, Portland, OR 97232, Telephone: (503) 231-6723; Fax: (503) 231-6731; or De Springer, Office of Indian Services, Bureau of Indian Affairs, 1849 C Street NW., MS-4513 MIB, Washington, DC 20240; Telephone (202) 513-7626.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Lummi Indian Business Council adopted this amendment to Title 20—Lummi Nation Code of Laws—Liquor Code by Resolution 2011-038 on March 1, 2011.

This notice is published in accordance with the authority delegated by the Secretary of the Interior to the Assistant Secretary—Indian Affairs. I certify that the Lummi Indian Business Council duly adopted this amendment to Title 20—Lummi Nation Code of Laws—Liquor Code by Resolution 2011-038 on March 1, 2011.

Dated: December 5, 2011.
Jodi Gillette,
Deputy Assistant Secretary—Indian Affairs.

The amendment to Title 20—Lummi Nation Code of Laws—Liquor Code reads as follows:

20.01.020 Prior Legislation

Beginning with the Treaty of Point Elliott, Article X, to which the ancestors of the Lummi Indian Tribe were parties, the Federal Government has respected this tribe's determinations regarding liquor related transactions and activities on the Lummi Indian Reservation. At treaty time, the Lummi Tribe's ancestors desired to exclude “ardent spirits” from their reservation. This desire was honored by Congress in the enactment of 18 U.S.C. 1154 and 18 U.S.C. 1161, which prohibit the introduction of liquor into the Lummi Indian Reservation unless and until the Lummi Indian Tribe has decided when and to what extent liquor transactions shall be permitted. The Lummi Tribe has decided to open the Lummi Indian Reservation to the possession, consumption, and sale of liquor by enacting Resolution L-33 on March 14, 1972. Subsequent circumstances have made it clear that it now necessary for the Lummi Indian Tribe to exert strict tribal regulation and control over all aspects of liquor sale, distribution, and use on the Lummi Indian Reservation and on lands held in trust by the United States for the benefit of the Lummi Indian Tribe.

20.01.030 Control Desired

The enactment of the tribal ordinance governing liquor sales on the Lummi Indian Reservation and on lands held in trust for the benefit of the Lummi Indian Tribe and providing for exclusive purchase and sale through tribally owned and operated establishments will increase the ability of the Tribal Government to control reservation liquor distribution and possession, and, at the same time, will provide an important source of revenue for the continued operation of essential tribal social services.

20.01.040 Goals of Regulation

Tribal regulation of the sale, possession, and consumption of liquor on the Lummi Indian Reservation and on land held in trust by the United States for the benefit of the Lummi Indian Tribe is necessary to protect the health, security, and general welfare of the Lummi Indian Tribe. In order to further these goals and to provide for an urgently needed additional source of governmental revenue, the Lummi Indian Business Council adopts this liquor ordinance to be known as the “Lummi Liquor Ordinance.” This ordinance shall be liberally construed to fulfill the purposes for which it has been adopted.

[FR Doc. 2011-31895 Filed 12-12-11; 8:45 am]

BILLING CODE 4310-4J-P